FEDERAL COMMUNICATIONS COMMISSION

47 CFR Part 2

[GN Docket No. 13-185; FCC 14-31]

Commercial Operations in the 1695-1710 MHz, 1755-1780 MHz, and 2155-2180 MHz Bands

AGENCY: Federal Communications Commission.

ACTION: Final rules; announcement of effective date.

SUMMARY: In this document, the Commission announces that the Office of Management and Budget (OMB) has approved, for a period of three years a non-substantive change to a currently approved information collection requirements contained in the regulations in the “Commercial Operations in the 1695-1710 MHz, 1755-1780 MHz, and 2155-2180 MHz.” The information collection requirement was approved on December 23, 2014 by OMB.

DATES: The amendments to 47 CFR 2.1033(c)(19)(i) through (ii), published at 79 FR 32410, June 4, 2014, is effective February 17, 2015.

FOR FURTHER INFORMATION CONTACT: For additional information contact Nancy Brooks on (202) 418-2454 or email Nancy.Brooks@fcc.gov.

SUPPLEMENTARY INFORMATION: This document announces that on December 23, 2014, OMB approved, for a period of three years a non-substantive change to a currently approved information collection requirement contained in 47 CFR 2.1033(c)(19)(i) through (ii). The Commission publishes this document to announce the effective date of this rule section. See, Amendment of the Commission's rules with Regard to Commercial Operations in the 1695-1710 MHz, 1755-1780 MHz, and 2155-2180 MHz, GN Docket No. 13-85; FCC 14-31, 79 FR 32410, June 4, 2014.

Synopsis

As required by the Paperwork Reduction Act of 1995, (44 U.S.C. 3507), the Commission is notifying the public that it received OMB approval on December 23, 2014, for the information collection requirement contained in 47 CFR 2.1033(c)(19)(i) through (ii). Under 5 CFR part 1320, an agency may not conduct or sponsor a collection of information unless it displays a current, valid OMB Control Number.

No person shall be subject to any penalty for failing to comply with a collection of information subject to the Paperwork Reduction Act that does not display a valid OMB Control Number. The OMB Control Number is 3060-0057.

Federal Communications Commission.
Marlene H. Dortch,
Secretary.

[FR Doc. 2015-03119 Filed 2-13-15; 8:45 am]

BILLING CODE 6712-01-P